DEPARTMENT OF ENERGY

Federal Energy Regulatory Commission

Combined Notice of Filings

Take notice that the Commission has received the following Natural Gas Pipeline Rate and Refund Report filings:

Filings Instituting Proceedings

Docket Numbers: RP12-1052-000.

Applicants: Natural Gas Pipeline Company of America.

Description: Negotiated Rate—Tenaska LPS-ROs to be effective 10/1/2012.

Filed Date: 9/24/12.

Accession Number: 20120924-5035.

Comments Due: 5 p.m. ET 10/9/12.

Docket Numbers: RP12-1053-000.

Applicants: Natural Gas Pipeline Company of America.

Description: Penalty Revenue Crediting Report of Natural Gas Pipeline Company of America LLC.

Filed Date: 9/24/12.

Accession Number: 20120924-5062.

Comments Due: 5 p.m. ET 10/9/12.

Docket Numbers: RP12-1054-000.

Applicants: Cameron Interstate Pipeline, LLC.

Description: Cameron Interstate Pipeline LLC Compliance Filing per FERC Order 587-V NAESB 2.0 to be effective 12/1/2012.

Filed Date: 9/24/12.

Accession Number: 20120924-5066.

Comments Due: 5 p.m. ET 10/9/12.

Docket Numbers: RP12-1055-000.

Applicants: LA Storage, LLC.

Description: LA Storage Compliance Filing per FERC Order 587-V NAESB V. 2.0 to be effective 12/1/2012.

Filed Date: 9/24/12.

Accession Number: 20120924-5067.

Comments Due: 5 p.m. ET 10/9/12.

Docket Numbers: RP12-1056-000.

Applicants: Mississippi Hub, LLC.

Description: Mississippi Hub Compliance Filing per FERC Order 587-V NAESB V. 2.0 to be effective 12/1/2012.

Filed Date: 9/24/12.

Accession Number: 20120924-5068.

Comments Due: 5 p.m. ET 10/9/12.

Docket Numbers: RP12-1057-000.

Applicants: Natural Gas Pipeline Company of America.

Description: Negotiated Rate Filing—J-W Gathering to be effective 10/1/2012.

Filed Date: 9/24/12.

Accession Number: 20120924-5148.

Comments Due: 5 p.m. ET 10/9/12.

Docket Numbers: RP12-1058-000.

Applicants: Pine Prairie Energy Center, LLC.

Description: Pine Prairie Enhanced Services to be effective 11/1/2012.

Filed Date: 9/25/12.

Accession Number: 20120925-5002.

Comments Due: 5 p.m. ET 10/9/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated September 25, 2012.
Nathaniel J. Davis, Sr.,
Deputy Secretary.

[FR Doc. 2012-24227 Filed 10-2-12; 8:45 am]

BILLING CODE 6717-01-P